SUSQUEHANNA RIVER BASIN COMMISSION

Notice of Compliance Incentive Program for SRBC Regulations

A. Purpose

The Susquehanna River Basin Commission (SRBC) approved Resolution 2000-03 on April 18, 2000 establishing a “Compliance Incentive Program” to encourage existing, unapproved water users to come into compliance with SRBC's water withdrawal and consumptive water use regulations. During the compliance incentive period, SRBC will not assess penalties provided that applications are submitted by specified deadlines and the noncompliance has not: (1) Adversely affected the environment; or (2) interfered with other water users. Because penalties are being waived, the need for settlements is likewise avoided (including those involving payments for prior consumptive water use). SRBC's objective is to have all water users in the basin compliant with SRBC's water management regulations. Universal compliance serves to enhance SRBC's ability to properly plan for and manage the basin's water resources.

B. SRBC's Existing Regulations Subject to Compliance Incentive Program

• 18 CFR 803.42—Consumptive Use of Water (This Requirement is not applicable to Agriculture)—more than 20,000 gallons per day (gpd) (averaged over 30 consecutive days) from any ground or surface water sources as of January 23, 1971. This regulation does not apply to projects that existed before January 23, 1971, UNLESS they increased their consumptive water use by more than 20,000 gpd after that date. Consumptive use of water is use in such a manner that the water does not return to the river basin; e.g. evaporation, incorporation into a product, diversion into another river basin.

• 18 CFR 803.43—Ground-Water Withdrawals—more than 100,000 gpd (averaged over 30 consecutive days) as of July 13, 1978. This regulation does not apply to projects that existed before July 13, 1978, UNLESS they increased their ground-water withdrawals by more than 100,000 gpd after that date.

• 18 CFR 803.44—Surface Water Withdrawals—more than 100,000 gpd (averaged over 30 consecutive days) as of November 11, 1995. This regulation does not apply to projects that existed before November 11, 1995 UNLESS they increased their ground-water withdrawals by more than 100,000 gpd after that date.

C. Eligible Applicants

To be eligible, unapproved water users must submit their water withdrawal and/or consumptive use applications by JUNE 30, 2001 (except for previously notified golf courses that are subject to alternate deadlines). During the eligibility period, the SRBC will not assess penalties. As noted above, because penalties are being waived, the need for settlements is likewise avoided (including those involving payments for prior consumptive water use).

The approved method of compliance for consumptive use will be effective January 1, 2001, regardless of when SRBC acts on the applications. Application fees are not waived during this compliance incentive period.

D. Where to Obtain Additional Information

To obtain more information, contact the Susquehanna River Basin Commission, 1721 N. Front Street, Harrisburg, PA 17102-2391; Phone: 717-238-0423, fax: 717-238-2436. We also encourage you to visit our website at http://www.srbc.net where the text of Resolution 2000-03 and SRBC's regulations and application forms are available. You may also e-mail us at srbc@srbc.net.

Dated: May 18, 2000.
Paul O. Swartz,
Executive Director.

[FR Doc. 00-14020 Filed 6-2-00; 8:45 am]

BILLING CODE 7040-01-P